DEPARTMENT OF COMMERCE

Census Bureau

Business and Professional Classification Report

ACTION: Proposed collection; comment request.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A)).

DATES: Written comments must be submitted on or before February 11, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Scott Handmaker, U.S. Census Bureau, Room 3-1640, Washington, DC 20233, (301) 763-7107 (or via the Internet at Scott.P.Handmaker@census.gov).

SUPPLEMENTARY INFORMATION:

I. Abstract

The Census Bureau sponsors the SQ-CLASS, “Business and Professional Classification Report”, to collect information needed to keep the retail, wholesale, and service samples current with the business universe. Because of rapid changes in the marketplace caused by the emergence of new businesses, the deaths of others, transfer of ownership, mergers, and so forth, on a quarterly basis the Census Bureau canvasses a sample of new Employer Identification Numbers (EINs) obtained from the Internal Revenue Service (IRS) and the Social Security Administration (SSA). Each selected firm is canvassed once for a type of business description, measure of size, and company affiliation on the establishment(s) associated with the new EIN. In essence, from the perspective of the business firm, this is a one time collection of data. A different sample of EINs is canvassed four times a year.

We are revising the SQ-CLASS to improve the flow of the questions as well as to provide information needed to assign the proper North American Industry Classification System (NAICS) code.

II. Method of Collection

We collect this information by mail, fax, and telephone follow-up.

III. Data

OMB Number: 0607-0189.

Form Number: SQ-CLASS.

Type of Review: Regular Submission.

Affected Public: Retail, Wholesale, and Service firms in the United States.

Estimated Number of Respondents: Annually, approximately 50,000.

Estimated Time Per Response: 13 minutes.

Estimated Total Annual Burden Hours: 10,835 hours.

Estimated Total Annual Cost: The cost to the respondent is estimated to be $255,598 for fiscal year 2005.

Respondent's Obligation: This collection of information is voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including the use of automated collection techniques or other forms of information technology.

Comments submitted in response to this notice will be summarized and included in the request for OMB approval of this information collection; they also will become a matter of public record.

Dated: December 7, 2004.
Madeleine Clayton,
Management Analyst, Office of the Chief Information Officer.

[FR Doc. 04-27204 Filed 12-10-04; 8:45 am]

BILLING CODE 3510-07-P